DEPARTMENT OF HEALTH AND HUMAN SERVICES

[Document Identifier: OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 2, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Teen Pregnancy Prevention Fiscal Year 2020/2021 Tier 1 and Tier 2 Implementation Study.

Type of Collection: New.

OMB No. 0990-NEW-Office of Population Affairs.

Abstract: The Office of Population Affairs (OPA), U.S. Department of Health and Human Services (HHS) is requesting 2 years of approval by OMB on a new collection. The Teen Pregnancy Prevention (TPP) Tier 1 and Tier 2 Implementation Study will document how 75 grantees funded in 2020 and 2021 are implementing their grant strategies to reduce rates of teen pregnancy and sexually transmitted infections in their selected communities or priority areas. OPA anticipates that grantees will employ diverse strategies working with partner organizations within communities to implement their teen pregnancy prevention projects. To document approaches and experiences of each grantee, a lead staff member in each grantee organization and up to one other staff member will be interviewed during an in-person or virtual site visit.

Up to two staff members from key grantee partner organizations will be interviewed for 31 of the 62 Tier 1 grantees and all 13 Tier 2 grantees. Interview participants will include up to 124 Tier 1 grantee staff members, 62 Tier 1 grantee partner organization staff members, 26 Tier 2 grantee staff members and 26 Tier 2 grantee partner organization staff members. The data collection effort will occur once and will primarily affect public and private businesses.

Estimated Annualized Burden Table
Type of respondent | Number of respondents | Number responses per respondent | Average burden per response (in hours) | Total burden hours
Tier 1 grantee director and other staff | 124 | 1 | 2 | 248
Tier 1 grantee partner staff | 62 | 1 | 1 | 62
Tier 2 grantee director and other staff | 26 | 1 | 2 | 52
Tier 2 grantee partner staff | 26 | 1 | 1 | 26
Total | 238 |  |  | 388

Sherrette A. Funn,
Paperwork Reduction Act Reports Clearance Officer, Office of the Secretary.

[FR Doc. 2022-21368 Filed 9-30-22; 8:45 am]

BILLING CODE 4150-30-P